DEPARTMENT OF HEALTH AND HUMAN SERVICES

Centers for Disease Control and Prevention

[30Day-25-0530]

Agency Forms Undergoing Paperwork Reduction Act Review

In accordance with the Paperwork Reduction Act of 1995, the Centers for Disease Control and Prevention (CDC) has submitted the information collection request titled “EEOICPA Dose Reconstruction Interviews and Forms” to the Office of Management and Budget (OMB) for review and approval. CDC previously published a “Proposed Data Collection Submitted for Public Comment and Recommendations” notice on November 8, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

EEOICPA Dose Reconstruction Interviews and Forms (OMB Control No. 0920-0530, Exp. 2/28/2025)—Extension—National Institute for Occupational Safety and Health (NIOSH), Centers for Disease Control and Prevention (CDC).

Background and Brief Description

The Energy Employees Occupational Illness Compensation Program Act of 2000 (EEOICPA), 42 U.S.C. 7384-7385, which originated as Public Law 106-398, established a compensation program to provide a lump sum payment of $150,000 and medical benefits as compensation to covered employees suffering from designated illnesses incurred as a result of their exposure to radiation, beryllium, or silica while in the performance of duty for the Department of Energy (DOE) and certain of its vendors, contractors and subcontractors. This legislation also provided for payment of compensation for certain survivors of these covered employees.

EEOICPA instructed the President to designate one or more Federal Agencies to carry out the compensation program. Accordingly, the President issued Executive Order 13179 (“Providing Compensation to America's Nuclear Weapons Workers”) on December 7, 2000 (65 FR 77487), assigning primary responsibility for administration of the compensation program to the Department of Labor (DOL). The executive order also directed the Department of Health and Human Services (HHS) to perform several technical and policymaking roles in support of the DOL program.

Among other duties, HHS is required to develop methods to estimate radiation doses (“dose reconstruction”) for certain individuals with cancer applying for benefits under the DOL program. HHS is also required to apply these methods to conduct the program of dose reconstruction required by EEOICPA. On September 28, 2001, this dose reconstruction program was delegated to the National Institute for Occupational Safety and Health (NIOSH), an Institute of the Centers for Disease Control and Prevention (CDC). On October 5, 2001, HHS published “Methods for Radiation Dose Reconstruction Under the Energy Employees Occupational Illness Compensation Act of 2000; Interim Final Rule With Request for Comments.” The preamble described the Paperwork Reduction Act and other information collection requirements involved in the program, and stated that NIOSH was requesting an emergency clearance from the Office of Management and Budget to collect data under the EEOICPA. Emergency clearance was granted on October 30, 2001, and routine clearance was granted May 31, 2002. HHS published the final rule on “Methods for Radiation Dose Reconstruction Under the Energy Employees Occupational Illness Compensation Program Act of 2000” on May 4, 2002, as 42 CFR 82.

The individuals for whom dose reconstruction is performed include all covered employees (as defined in EEOICPA) who are not in the statutorily defined “special exposure cohort” with a specified cancer. Technical limitations of radiation monitoring technology and procedures will require HHS to evaluate each employee's recorded dose. In most cases, these monitoring limitations will result in possibly undetected or unrecorded doses, which will be estimated using standard dose reconstruction methods and would be added to the dose record.

The procedures and level of effort involved in dose reconstructions depend in part on the quantity and quality of available dose monitoring information, the conditions under which radiation exposure arose, and the forms of radiation to which the individual was exposed. If individuals for whom dose estimates are needed were monitored using present day radiation protection technology and received only external radiation doses, dose reconstruction could be very simple, and might only require adding the radiation doses recorded from radiation badges and adding estimated potential “missed” doses, where appropriate. However, dose reconstruction can require extensive research and analysis. Additional work is required if radiation doses were not monitored or there is uncertainty about the monitoring methods involved; if there was potential for internal doses through the ingestion, inhalation or absorption of radioactive materials; or if the processes and circumstances involved in the radiation exposures were complex.

An important aspect of the HHS dose reconstruction process is that it involves interaction with the covered employee or his or her survivor. NIOSH initially interviews claimants individually and provides them with the opportunity, through a structured interview, to assist NIOSH in documenting the work history of the employee (characterizing the actual work tasks performed), identifying incidents that may have resulted in undocumented radiation exposures, characterizing radiation protection and monitoring practices and identifying co-workers and other witnesses, if NIOSH determines it necessary, to confirm undocumented information. In this process, NIOSH uses a computer assisted telephone interview (CATI) system, which allows interviews to be conducted more efficiently and quickly than would be the case with a paper-based instrument.

NIOSH has developed three different initial telephone interviews which are used in the dose reconstruction process. The first is used when the claimant is the covered employee. The second is used when the claimant is a family member of the covered employee, since in many instances, the covered employee is deceased or incapacitated. The third interview is for co-workers or supervisors of the covered employee, when the claimant is a family member, since family members may not know all the information necessary for the dose reconstruction.

After the dose reconstruction has been completed, NIOSH contacts the claimants to explain the results of the dose reconstruction. Claimants have the opportunity to ask questions about the information used, the methods, and the results. This is the final opportunity for the claimant to supplement the dose reconstruction record. Additionally, NIOSH has developed Form OCAS-1 Statement by the Claimant Closing the Record on a NIOSH Dose Reconstruction under the Energy Employees Occupational Illness Compensation Program Act—which is signed by the claimant at the end of the dose reconstruction process, before the claim is referred back to DOL for further processing.

CDC requests OMB approval for an estimated 3,900 annual burden hours. NIOSH is requesting a three-year extension of this approval.

Estimated Annualized Burden Hours
Type of respondents | Form name | Number of respondents | Number of responses per respondent | Average burden per response (in hours)
EEOICPA Claimant | Initial interview | 3,600 | 1 | 1
EEOICPA Claimant | Conclusion form OCAS-1 | 3,600 | 1 | 5/60

Jeffrey M. Zirger,
Lead, Information Collection Review Office, Office of Public Health Ethics and Regulations, Office of Science, Centers for Disease Control and Prevention.

[FR Doc. 2025-03364 Filed 2-27-25; 8:45 am]

BILLING CODE 4163-18-P